DEPARTMENT OF ENERGY

Federal Energy Regulatory Commission

[Docket No. CP01-388-000]

Transcontinental Gas Pipe Line Company; Notice of Route and Site Review

October 5, 2001.

On October 22 and continuing through October 26, 2001, the staff of the Office of Energy Projects (OEP) will conduct a route and site review of the proposed Momentum Expansion Project. The Momentum Expansion Project facilities are proposed for construction by Transcontinental Gas Pipe Line Company (Transco). Representatives of Transco will accompany the OEP staff. The following list specifies the time and location to meet staff at each project facility.

Monday, October 22, 2001:

Compressor Station 160: 9:00 am, 4300 NC Highway 65, southwest of Reidsville, North Carolina.

Tuesday, October 23, 2001:

Bowman Loop: 9:00 am, at Compressor Station 130, 117 Winns Lake Road, Comer, Geogia.

Wednesday, October 24, 2001:

Kellyton Loop and Compressor Station 105: 9:00 am, 232 Highway 22 East, Rockford, Alabama.

Thursday, October 25, 2001:

Jones Loop and Compressor Stations 90 & 100: 9:00 am, at Compressor Station 100, 642 Country Road 62, Billingsly, Alabama.

3:00 pm, at Compressor Station 90, 18491 Alabama Highway 69, southwest of Myrtlewood, Alabama.

Friday, October 26, 2001:

Hale and Magnolia Loops: 8:00 am, parking lot First United Methodist Church, 203 Franklin Street, Quitman, Mississippi.

3:00 pm, at MTS Grocery, southeast corner of Highway 48 and I-55 in Magnolia, Mississippi.

Anyone interested in attending the route and site review or obtaining further information may contact the Commission's Office of External Affairs at (202) 208-1088. Attendees must provide their own transportation.

Linwood A. Watson, Jr.,
Acting Secretary.

[FR Doc. 01-25623 Filed 10-11-01; 8:45 am]

BILLING CODE 6717-01-P